DEPARTMENT OF HOMELAND SECURITY

Coast Guard

33 CFR Part 100

[Docket No. USCG-2013-0644]

Special Local Regulations; Annual Marine Events on the Colorado River, Between Davis Dam (Bullhead City, Arizona) and Headgate Dam (Parker, Arizona) Within the San Diego Captain of the Port Zone

AGENCY: Coast Guard, DHS.

ACTION: Notice of enforcement of regulation.

SUMMARY: The Coast Guard will enforce marine event special local regulations on the navigable waters of Lake Havasu during the International Jet Sports Boating Association (IJSBA) World Finals, to be held on October 5, 2013 thru October 13, 2013. This action is necessary to ensure the safety of life and property on navigable waters. During the enforcement period, the special local regulations establish a regulated area that people and vessels will be prohibited from entering. Vessels may enter, transit through, anchor in, or remain within the area if authorized by the Captain of the Port or his designated representative.

DATES: This rule is effective from 6:30 a.m. to 6:30 p.m. on October 5, 2013 through October 13, 2013.

FOR FURTHER INFORMATION CONTACT: If you have questions on this notice of enforcement, call Petty Officer Bryan Gollogly, U.S. Coast Guard Sector San Diego at 619-278-7267, or by email at Bryan.R.Gollogly@uscg.mil.

SUPPLEMENTARY INFORMATION: The Coast Guard will enforce the special local regulations on the Colorado River for the International Jet Sports Boating Association (IJSBA) World Finals, listed in 33 CFR 100.1102, Table 1, Item 7, from 6:30 a.m. to 6:30 p.m. on October 5, 2013 thru October 13, 2013.

Under provisions of 33 CFR 100.1102, a vessel may not enter the regulated area, unless it receives permission from the Captain of the Port or a designated representative. Persons or vessels desiring to enter into or pass through the restricted waters may request permission from the Captain of the Port or a designated representative. This temporary rule creates a regulated area that will encompass a portion of the waterway that is 1,200 ft wide by 1,000 ft in length, marked by the following coordinates:

34°28.49′ N, 114°21.33′ W; 34°28.55′ N, 114°21.56′ W; 34°28.43′ N, 114°21.81′ W; 34°28.32′ N, 114°21.71′ W; along the shoreline to 34°28.49′ N, 114°21.33′ W.

Spectator vessels may safely transit outside the regulated area, but may not anchor, block, loiter in, or impede the transit of event participants or official patrol vessels. If permission is granted, all persons and vessels shall comply with the instructions of the Captain of the Port or designated representative. The Coast Guard may be assisted by other Federal, State, or Local law enforcement agencies in enforcing this regulation.

This notice is issued under authority of 5 U.S.C. 552 (a) and 33 CFR 100.1102. In addition to this notice in the Federal Register, the Coast Guard will provide the maritime community with advance notification of this enforcement period via the Local Notice to Mariners and local advertising by the event sponsor.

If the Captain of the Port Sector San Diego or his designated representative determines that the regulated area need not be enforced for the full duration stated on this notice, he or she may use a Broadcast Notice to Mariners or other communications coordinated by the event sponsor to grant general permission to enter the regulated area.

Dated: September 6, 2013.
S.M. Mahoney,
Captain, U.S. Coast Guard, Captain of the Port San Diego.

[FR Doc. 2013-23267 Filed 9-25-13; 8:45 am]

BILLING CODE 9110-04-P